DEPARTMENT OF COMMERCE

National Oceanic and Atmospheric Administration

Agency Information Collection Activities; Submission to the Office of Management and Budget (OMB) for Review and Approval; Comment Request; NOAA Coastal Ocean Program Grants Proposal Application Package

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 8, 2021 (86 FR 30410) during a 60-day comment period and on October 8, 2021 (86 FR 56256) for an additional 30-day comment period. This notice allows for an additional 30 days for public comments.

Agency: National Oceanic and Atmospheric Administration (NOAA), Commerce.

Title: NOAA Coastal Ocean Program Grants Proposal Application Package.

OMB Control Number: 0648-0384.

Form Number(s): None.

Type of Request: Regular submission (revision/extension of a current information collection).

Number of Respondents: 1,550.

Average Hours per Response: 30 minutes each for a project summary and current and pending federal support; 6 hours for a semi-annual report; 8 hours for an annual report, 12 hours for a CRP final report, 10.5 hours for the RSP final report; and 1 hour for the milestone Gantt chart.

Total Annual Burden Hours: 2,312.5.

Needs and Uses: This request is for a revision and extension of a currently approved information collection. The National Oceanic and Atmospheric Administration's Coastal Ocean Program (COP), now known as the Competitive Research Program (CRP) under the National Centers for Coastal Ocean Science, provides direct financial assistance through grants and cooperative agreements for research supporting the management of coastal ecosystems and the NOAA RESTORE Science Program (RSP). The statutory authority for COP is Public Law 102-567 Section 201 (Coastal Ocean Program). NOAA was authorized to establish and administer the Restore Science Program, in consultation with the U.S. Fish and Wildlife Service, by the Resources and Ecosystems Sustainability, Tourist Opportunities, and Revived Economies (RESTORE) of the Gulf States Act of 2012 (Pub. L. 112-141, Section 1604). Identified in the RESTORE Act as the Gulf Coast Ecosystem restoration Science, Observation, Monitoring, and Technology Program, the Program is commonly known as the NOAA RESTORE Science Program. In addition to standard government application requirements, applicants for financial assistance are required to submit a project summary form, current and pending form, and a key contacts form for both programs. CRP recipients are required to file annual progress reports and a project final report using CRP formats. The RSP are required to file semi-annual progress reports, a final report, and a Gantt chart showing project milestones using RSP formats. All of these requirements are needed for better evaluation of proposals and monitoring of awards.

Several revisions are being requested for this information collection. The approved annual and final reports for CRP will be revised to include the request for publication digital object identifiers (DOIs). The RSP semi-annual and final reports will be revised to include end-user details. Finally, the Key Contacts Form will be removed from the package as the information contained in this document can be found in the Standard Form (SF)-424 form and Summary Title Page. Therefore, the estimated burden hours will be reduced by 150 hours.

Affected Public: Individuals or households; Business or other for-profit organizations; Not-for-profit institutions; State, Local, or Tribal government.

Frequency: Annually, semi-annually, and on occasion.

Respondent's Obligation: Required to obtain or retain benefits.

Legal Authority: N/A.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0384.

Sheleen Dumas,
Department PRA Clearance Officer, Office of the Chief Information Officer, Commerce Department.

[FR Doc. 2021-25964 Filed 11-29-21; 8:45 am]

BILLING CODE 3510-JS-P